DEPARTMENT OF EDUCATION

Tests Determined To Be Suitable for Use in the National Reporting System for Adult Education

AGENCY: Office of Career, Technical, and Adult Education, Department of Education.

ACTION: Notice.

SUMMARY: The Secretary announces that a test with National Reporting System for Adult Education (NRS) approval expiring on February 5, 2025, may continue to be used by States and local eligible providers during a sunset period ending on June 30, 2025.

FOR FURTHER INFORMATION CONTACT: John LeMaster, Department of Education, 400 Maryland Avenue SW, Washington, DC 20202. Telephone: (202) 987-0903. Email: John.LeMaster@ed.gov.

If you are deaf, hard of hearing, or have a speech disability and wish to access telecommunications relay services, please dial 7-1-1.

SUPPLEMENTARY INFORMATION: On June 20, 2024, the Secretary published in the Federal Register (89 FR 51877) an annual notice announcing tests determined to be suitable for use in the NRS, in accordance with 34 CFR 462.13 (June 2024 annual notice). The June 2024 annual notice announced two new tests and test forms that have been determined to be suitable for use in the NRS, in accordance with § 462.13. The notice also updated the delivery formats available for two tests with a three-year approval expiring on July 13, 2026. Under the transition rules in § 462.4, the Secretary also announced in the June 2024 annual notice a test with NRS approval expiring on September 7, 2024, which States and local eligible providers may continue to use during a sunset period ending on June 30, 2025.

In this notice, under the transition rules in § 462.4, the Secretary announces a test with NRS approval expiring on February 5, 2025, which States and local eligible providers may continue to use during a sunset period ending on June 30, 2025.

Adult education programs must use only the forms and computer-based delivery formats for the tests approved in this notice. If a particular test form or computer delivery format is not explicitly specified for a test in this notice, it is not approved to measure educational gain in the NRS.

Test With NRS Approval Expiring on February 5, 2025, That May Be Used in the NRS During a Sunset Period Ending on June 30, 2025

The Secretary has determined that the following test is suitable for use in Literacy/English Language Arts at all ABE levels of the NRS during a sunset period ending on June 30, 2025:

Comprehensive Adult Student Assessment System (CASAS) Reading GOALS Series. Forms 901, 902, 903, 904, 905, 906, 907, and 908 are approved for use on paper and through a computer-based delivery format. Publisher: CASAS, 5151 Murphy Canyon Road, Suite 220, San Diego, CA 92123-4339. Telephone: (800) 255-1036. Internet: www.casas.org/.

Revocation of Tests

Under certain circumstances—such as, for example, a determination by the Secretary either that the information the publisher submitted as a basis for the Secretary's review of the test was inaccurate or that a test has been substantially revised—the Secretary may revoke the determination that a test is suitable after following the procedures in § 462.12(e). If the Secretary revokes the determination of suitability, the Secretary announces the revocation, as well as the date by which States and local eligible providers must stop using the revoked test, through a notice published in the Federal Register.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Program Authority: 29 U.S.C. 3292.

OMB Control Numbers: 1830-0027, 1830-0567.

Luke Rhine,
Acting Assistant Secretary for Career, Technical, and Adult Education.

[FR Doc. 2024-29300 Filed 12-11-24; 8:45 am]

BILLING CODE 4000-01-P